DEPARTMENT OF ENERGY

Federal Energy Regulatory Commission

[Docket No. CP14-97-000]

Carolina Gas Transmission Corporation; Notice of Request Under Blanket Authorization

Take notice that on February 28, 2014, Carolina Gas Transmission Corporation (CGT), 601 Old Taylor Road, Cayce, South Carolina 29033, filed in Docket No. CP14-97-000, a prior notice request pursuant to sections 157.205, 157.208 and 157.210 of the Commission's Regulations under the Natural Gas Act (NGA) as amended, requesting authorization to construct a new compressor station near Edgemoor, Chester County, South Carolina (Edgemoor Compressor Station). CGT also proposes to install, approximately 1,300 feet of 8-inch diameter pipeline, and to increase the maximum allowable operating pressure on its existing Line 2 (Edgemoor Compressor Project), all as more fully set forth in the application which is on file with the Commission and open to public inspection. The filing may also be viewed on the Web at http://www.ferc.gov using the “eLibrary” link. Enter the docket number excluding the last three digits in the docket number field to access the document. For assistance, please contact FERC Online Support at FERCOnlineSupport@ferc.gov or toll free at (866) 208-3676, or TTY, contact (202) 502-8659.

Specifically, CGT states that the Edgemoor Compressor Project will provide an additional 45,000 dekatherms per day of firm transportation capacity to two customers. CGT submits that the Edgemoor Compressor Station will consist of three 1,600 horsepower (HP) natural gas-fired turbine compressor units and one 4,700 HP natural gas-fired turbine compressor unit. CGT estimates that the cost of the proposed Project will be $23.8 million.

Any questions concerning this application may be directed to each of the following persons: Michael R. Ferguson, Carolina Gas Transmission Corporation, 601 Old Taylor Road, Cayce, South Carolina, 29033, by telephone (803) 217-2107 or by email at mferguson@scana.com; or Shelby L. Provencher, SCANA Corporation, Mail Code C222, 220 Operation Way, Cayce, South Carolina 29033, by telephone at (803) 217-7802, or by email at shelby.provencher@scana.com.

Any person or the Commission's staff may, within 60 days after issuance of the instant notice by the Commission, file pursuant to Rule 214 of the Commission's Procedural Rules (18 CFR 385.214) a motion to intervene or notice of intervention and pursuant to Section 157.205 of the regulations under the NGA (18 CFR 157.205), a protest to the request. If no protest is filed within the time allowed therefore, the proposed activity shall be deemed to be authorized effective the day after the time allowed for filing a protest. If a protest is filed and not withdrawn within 30 days after the allowed time for filing a protest, the instant request shall be treated as an application for authorization pursuant to section 7 of the NGA.

Pursuant to section 157.9 of the Commission's rules, 18 CFR 157.9, within 90 days of this Notice the Commission staff will either: Complete its environmental assessment (EA) and place it into the Commission's public record (eLibrary) for this proceeding, or issue a Notice of Schedule for Environmental Review. If a Notice of Schedule for Environmental Review is issued, it will indicate, among other milestones, the anticipated date for the Commission staff's issuance of the final environmental impact statement (FEIS) or EA for this proposal. The filing of the EA in the Commission's public record for this proceeding or the issuance of a Notice of Schedule for Environmental Review will serve to notify federal and state agencies of the timing for the completion of all necessary reviews, and the subsequent need to complete all federal authorizations within 90 days of the date of issuance of the Commission staff's FEIS or EA.

Persons who wish to comment only on the environmental review of this project should submit an original and two copies of their comments to the Secretary of the Commission. Environmental commenter's will be placed on the Commission's environmental mailing list, will receive copies of the environmental documents, and will be notified of meetings associated with the Commission's environmental review process. Environmental commenter's will not be required to serve copies of filed documents on all other parties. However, the non-party commentary, will not receive copies of all documents filed by other parties or issued by the Commission (except for the mailing of environmental documents issued by the Commission) and will not have the right to seek court review of the Commission's final order.

Dated: March 10, 2014.
Kimberly D. Bose,
Secretary.

[FR Doc. 2014-05797 Filed 3-14-14; 8:45 am]

BILLING CODE 6717-01-P